Title 3—

The President

Presidential Determination No. 2000-29 of September 12, 2000

Continuation of the Exercise of Certain Authorities Under the Trading With the Enemy Act

Memorandum for the Secretary of State [and] the Secretary of the

Treasury

Under section 101(b) of Public Law 95-223 (91 Stat. 1625; 50 U.S.C. App. 5(b) note), and a previous determination made by me on September 10, 1999 (64 Fed. Reg. 51885), the exercise of certain authorities under the Trading With the Enemy Act is scheduled to terminate on September 14, 2000.

I hereby determine that the continuation for 1 year of the exercise of those authorities with respect to the applicable countries is in the national interest of the United States.

Therefore, pursuant to the authority vested in me by section 101(b) of Public Law 95-223, I continue for 1 year, until September 14, 2001, the exercise of those authorities with respect to countries affected by:

(1) the Foreign Assets Control Regulations, 31 CFR part 500;

(2) the Transaction Control Regulations, 31 CFR part 505; and

(3) the Cuban Assets Control Regulations, 31 CFR part 515.

The Secretary of the Treasury is authorized and directed to publish this determination in the Federal Register.

wj

THE WHITE HOUSE,

Washington, September 12, 2000.

[FR Doc. 00-23825

Filed 9-13-00; 8:45 am]

Billing code 4810-31-M